INTERNATIONAL TRADE COMMISSION

[Investigation Nos. 701-TA-623 and 731-TA-1449 (Review)]

Vertical Metal File Cabinets From China; Determinations

On the basis of the record ¹ developed in the subject five-year reviews, the United States International Trade Commission (“Commission”) determines, pursuant to the Tariff Act of 1930 (“the Act”), that revocation of the antidumping and countervailing duty orders on vertical metal file cabinets from China would be likely to lead to continuation or recurrence of material injury to an industry in the United States within a reasonably foreseeable time.

¹ The record is defined in § 207.2(f) of the Commission's Rules of Practice and Procedure (19 CFR 207.2(f)).

Background

The Commission instituted these reviews on November 1, 2025 (89 FR 87407) and determined on February 4, 2025, that it would conduct expedited reviews (90 FR 10942, February 28, 2025).

The Commission made these determinations pursuant to section 751(c) of the Act (19 U.S.C. 1675(c)). It completed and filed its determinations in these reviews on May 23, 2025. The views of the Commission are contained in USITC Publication 5629 (May 2025), entitled “Vertical Metal File Cabinets from China: Investigation Nos. 701-TA-623 and 731-TA-1449 (Review)”.

By order of the Commission.
Issued: May 23, 2025.
Lisa Barton,
Secretary to the Commission.

[FR Doc. 2025-09768 Filed 5-29-25; 8:45 am]

BILLING CODE 7020-02-P